ENVIRONMENTAL PROTECTION AGENCY

[FRL-7015-4]

Beaches Environmental Assessment and Coastal Health Act; Announcement of Public Forums for Draft National Beach Guidance and Grant Performance Criteria for Recreation Waters

AGENCY: Environmental Protection Agency.

ACTION: Notice.

SUMMARY: The Environmental Protection Agency (EPA) is announcing five public forums to assist the public in their review of the draft National Beach Guidance and Grant Performance Criteria for Recreation Waters and in preparing comments. EPA has developed and is requesting public comments on the draft Guidance, and the document describes specific performance criteria for grant applicants to meet to be awarded grants.

Beaches Environmental Assessment and Coastal Health Act (BEACH Act) signed into law on October 10, 2000, amends the Clean Water Act (CWA), to reduce the risk of disease to users of the Nation's recreational waters. The BEACH Act authorizes the EPA to publish performance criteria for monitoring and assessment of coastal recreation waters and the prompt notification of exceeding applicable water quality standards. The BEACH Act also requires EPA to develop the criteria in cooperation with appropriate Federal, State, tribal, and local officials and provide public notice and an opportunity for comment.

EPA is now encouraging all Federal, State, and local environmental and health officials, environmental organizations, and the public to attend the public forums and submit comments on the Guidance.

DATES: See SUPPLEMENTARY INFORMATION for dates of public forums.

ADDRESSES: A copy of the document can also be obtained by downloading the file located at www.epa.gov/waterscience/beaches/grants on the Internet. See SUPPLEMENTAL INFORMATION for locations of public forums.

FOR FURTHER INFORMATION CONTACT: Mimi Dannel, 202-260-1897.

SUPPLEMENTARY INFORMATION:

I. Guidance Document

What Is the Statutory Authority for the Guidance Document?

The statutory authority for BEACH Guidance Document is section 406(b) of the Clean Water Act as amended by the BEACH Act, Pub. L. No. 106-284, 114 Stat. 970 (2000). It provides in part: “The Administrator must publish performance criteria for monitoring and assessment of coastal recreation waters and the prompt notification of exceeding applicable water quality standards.”

What Are the Major Components of the Guidance Document?

The document contains five chapters and accompanying appendices which provide both guidance and grant performance criteria. Chapter 1 explains the legislation and human health concerns with microbial contamination of recreation waters. Chapter 2 describes the nine grant performance criteria. Chapter 3 introduces the risk-based beach evaluation and classification process to prioritize waters. Chapter 4 describes beach monitoring and beach assessment for sampling and detecting bacteria, and Chapter 5 explains the public notification and risk communication to inform the public about risks when swimming in bacterially polluted water.

How Can I Obtain a Copy of the Document?

A copy of the document can also be obtained by downloading the file located at www.epa.gov/waterscience/beaches/grants on the Internet.

II. Public Forums

What Is the Purpose of the Public Forums?

The public forums will assist the stakeholders and the public in their review of the draft Guidance and in preparing comments to submit to EPA.

Will Formal Comments on the Guidance Be Taken at the Public Forums?

No. The public forums are not intended to be a mechanism to submit formal comments, but rather an information session instructing how to submit comments. EPA will later announce in the Federal Register the availability of the document, and will at that time announce a formal comment period.

Who Should Attend?

All levels of beach water quality managers and public health officials, as well as the general public should attend.

How Do I Register for the Public Forums?

The public forums are free, but registration is requested/appreciated due to seating. To register for the public forums, visit www.epa.gov/waterscience/beaches/meeting.html on the Internet.

When and Where Will the Public Forums Be Held?

The dates and cities of the public forums are:

1. July 31, 2001, 8:30 a.m. to 5:00 p.m., Wilmington, DE, Wyndham Garden Hotel, 700 King St.,Wilmington, DE 19801; (302) 655-0400, 1-800-996-3426.

2. August 3, 2001, 8:30 a.m. to 5:00 p.m., San Diego, CA, Town and Country Resort & Convention Center, 500 Hotel Circle N., San Diego, CA 92108; (619) 291-7131, 1-800-772-8527.3. August 21, 2001, 8:30 a.m. to 5:00 p.m., Jacksonville, FL, Radisson Riverwalk Hotel, 1515 Prudential Drive, Jacksonville, FL 32207; (904) 396-5100, 1-800-333-3333.

4. August 23, 2001, 8:30 a.m. to 5:00 p.m., New Orleans, LA, Le Meridien New Orleans, 614 Canal Street, New Orleans, LA 70130-9946; (504) 525-6500, 1-800-543-4300.

5. August 23, 2001, 8:30 a.m. to 5:00 p.m., Chicago, IL, The Ambassador West, 1300 N State Pkwy, Chicago, IL 60610; (312) 787-3700, 1-800-996-3426.

Dated: July 13, 2001.
Louise P. Wise,
Acting Director, Office of Science and Technology.

[FR Doc. 01-18195 Filed 7-19-01; 8:45 am]

BILLING CODE 6560-50-P